DEPARTMENT OF THE INTERIOR

Office of the Secretary

[256D0102DM, DS6CS00000, DLSN00000.000000, DX.6CS25]

Notice of Senior Executive Service Performance Review Board Appointments

AGENCY: Office of the Secretary, Interior.

ACTION: Notice of appointments.

SUMMARY: This notice provides the names of individuals appointed to serve on the Department of the Interior Senior Executive Service (SES) Performance Review Board.

DATES: These appointments take effect upon November 21, 2024.

FOR FURTHER INFORMATION CONTACT: Mark Green, Deputy Assistant Secretary—Human Capital and Diversity/Chief Human Capital Officer, by email at Mark_Green@ios.doi.gov, or by telephone at (202) 208-3100.

SUPPLEMENTARY INFORMATION: The individuals appointed to serve on the Department of the Interior SES Performance Review Board are as follows:

ANDERSON, JIM

BRUNO, JASON

CALDWELL, MIKE

CURRIER, PATTY

DUTSCHKE, AMY

FINNEGAN, COLLEEN

LUPO, FRANK

MATRAGRANO, KAREN

MORROW, HEIDI

O'NEAL, JASON

WEBER, WENDI

WEYERS, HOLLY

Authority: 5 U.S.C. 4314.

Mark D. Green,
Deputy Assistant Secretary—Human Capital and Diversity, Chief Human Capital Officer.

[FR Doc. 2024-27290 Filed 11-20-24; 8:45 am]

BILLING CODE 4334-63-P